DEPARTMENT OF COMMERCE

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: Processed Products Family of Forms.

OMB Control Number: 0648-0018.

Form Number(s): NOAA 88-13 and 88-13c.

Type of Request: Regular submission.

Number of Respondents: 1,320.

Average Hours Per Response: Annual processors report, 30 minutes; monthly products report, 15 minutes.

Burden Hours: 681.

Needs and Uses: As part of a Fishery Management Plan developed under the authority of the Magnuson-Stevens Fishery Conservation and Management Act, the National Oceanic and Atmospheric Administration (NOAA) annually collects information from seafood and industrial fishing processing plants on the volume and value of their processed fishery products and their monthly employment figures. NOAA also collects monthly information on the production of fish meal and oil. The information gathered is used by NOAA in the economic and social analyses used when proposing and evaluating fishery management actions.

Affected Public: Business or other for-profit organizations.

Frequency: Annually and monthly.

Respondent's Obligation: Mandatory.

OMB Desk Officer: David Rostker, (202) 395-3897.

Copies of the above information collection proposal can be obtained by calling or writing Diana Hynek, Departmental Paperwork Clearance Officer, (202) 482-0266, Department of Commerce, Room 6625, 14th and Constitution Avenue, NW., Washington, DC 20230 (or via the Internet at dHynek@doc.gov).

Written comments and recommendations for the proposed information collection should be sent within 30 days of publication of this notice to David Rostker, OMB Desk Officer, FAX number (202) 395-7285, or David_Rostker@omb.eop.gov.

Dated: April 8, 2010.
Gwellnar Banks,
Management Analyst, Office of the Chief Information Officer.

[FR Doc. 2010-8400 Filed 4-12-10; 8:45 am]

BILLING CODE 3510-22-P